DEPARTMENT OF TRANSPORTATION

Federal Aviation Administration

Agency Information Collection Activities: Requests for Comments; Clearance of Reinstatement Approval of Information Collection: Notice of Proposed Outdoor Laser Operations

AGENCY: Federal Aviation Administration (FAA), DOT.

ACTION: Notice and request for comments.

SUMMARY: In accordance with the Paperwork Reduction Act of 1995, FAA invites public comments about our intention to request the Office of Management and Budget (OMB) approval to reinstate a previously approved information collection. In order for the FAA to ensure safety it proposes to collect information from potential outdoor laser operators. The FAA will review the proposed laser activity against air traffic operations and verify that the laser operation will not interfere with air traffic operations.

DATES: Written comments should be submitted by October 30, 2017.

ADDRESSES: Send comments to the FAA at the following address: Barbara Hall, Federal Aviation Administration, ASP-110, 10101 Hillwood Parkway, Fort Worth, TX 76177.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Barbara Hall by email at: Barbara.L.Hall@faa.gov; phone 940-594-5913.

SUPPLEMENTARY INFORMATION: OMB Control Number: 2120-0662.

Title: Notice of Proposed Outdoor Laser Operations.

Form Numbers: FAA Form AC 7140-1.

Type of Review: Reinstatement of an information collection.

Background: The FAA will use the information gathered from laser operators planning to conduct outdoor laser operations to evaluate potential hazards to aircraft operating in the National Airspace System (NAS). Ultimately, the goal is to prevent an aircraft from being hit by the laser operation. The information will be reviewed by one of the three FAAs service centers and sent to the facility, which can be a Tower, TRACON or Center, that is being impacted by the operation. The faculty will review the proposed operation and state no objection or list an objection to the operation. If the facility lists an objection, then the service center will contact the proponent and see if adjustments can be made to the proposed operation.

Respondents: Approximately 405 laser operations.

Frequency: One time per laser operation.

Estimated Average Burden per Response: Approximately 4 hours per form.

Estimated Total Annual Burden: An estimated 1,620 hours.

Issued in Washington, DC, on August 24, 2017.
Barbara Hall,
FAA Information Collection Clearance Officer, Performance, Policy, and Records Management Branch, ASP-110.

[FR Doc. 2017-18509 Filed 8-30-17; 8:45 am]

BILLING CODE 4910-13-P